DEPARTMENT OF COMMERCE

National Oceanic and Atmospheric Administration

RIN 0648-XJ20

Endangered Species; File No. 13544

AGENCY: National Marine Fisheries Service (NMFS), National Oceanic and Atmospheric Administration (NOAA), Commerce.

ACTION: Notice; receipt of application.

SUMMARY: Notice is hereby given that Jeffrey Schmid, Conservancy of Southwest Florida, 1450 Merrihue Drive, Naples, FL 34102, has applied in due form for a permit to take Kemp's ridley (Lepidochelys kempii), loggerhead (Caretta caretta), hawksbill (Eretmochelys imbricata), and green (Chelonia mydas) sea turtles for purposes of research.

DATES: Written, telefaxed, or e-mail comments must be received on or before August 25, 2008.

ADDRESSES: The application and related documents are available for review upon written request or by appointment in the following office(s):

Permits, Conservation and Education Division, Office of Protected Resources, NMFS, 1315 East-West Highway, Room 13705, Silver Spring, MD 20910; phone (301)713-2289; fax (301)427-2521; and

Southeast Region, NMFS, 263 13th Avenue South, St. Petersburg, FL 33701; phone (727)824-5312; fax (727)824-5309.

Written comments or requests for a public hearing on this application should be mailed to the Chief, Permits, Conservation and Education Division, F/PR1, Office of Protected Resources, NMFS, 1315 East-West Highway, Room 13705, Silver Spring, MD 20910. Those individuals requesting a hearing should set forth the specific reasons why a hearing on this particular request would be appropriate.

Comments may also be submitted by facsimile at (301)427-2521, provided the facsimile is confirmed by hard copy submitted by mail and postmarked no later than the closing date of the comment period.

Comments may also be submitted by e-mail. The mailbox address for providing e-mail comments is NMFS.Pr1Comments@noaa.gov. Include in the subject line of the e-mail comment the following document identifier: File No. 13544.

FOR FURTHER INFORMATION CONTACT: Kate Swails or Patrick Opay, (301)713-2289.

SUPPLEMENTARY INFORMATION: The subject permit is requested under the authority of the Endangered Species Act of 1973, as amended (ESA; 16 U.S.C. 1531 et seq.) and the regulations governing the taking, importing, and exporting of endangered and threatened species (50 CFR 222-226).

The purpose of the proposed research activities is to characterize the aggregations of marine turtles in the nearshore waters of Lee County in southwest Florida. Turtles would be collected in Pine Island Sound, San Carlos Bay, Estero Bay, and adjacent Gulf of Mexico waters using a large-mesh, run-around strike net. Turtles would be measured, weighed, and tagged with Inconel tags on the trailing edge of the front flippers and a passive integrated transponder tag inserted in the left front flipper. Tissue samples would be collected for genetic and stable isotope analyses. The applicant requests annual take of 130 Kemp's ridley, 50 loggerhead, 20 green, and five hawksbill turtles. A subset of Kemp's ridleys would be held for 24-48 hrs. for fecal sample collection. Another subset of Kemp's ridleys would receive electronic transmitters to investigate their movements, home range, and habitat associations. The applicant is requesting a five-year permit.

Dated: July 18, 2008.
P. Michael Payne,
Chief, Permits, Conservation and Education Division, Office of Protected Resources, National Marine Fisheries Service.

[FR Doc. E8-16994 Filed 7-23-08; 8:45 am]

BILLING CODE 3510-22-S